DEPARTMENT OF EDUCATION

Special Demonstration Programs—Model Demonstrations for Assistive Technology Reutilization

AGENCY: Office of Special Education and Rehabilitative Services, Department of Education.

ACTION: Notice of proposed priorities.

SUMMARY: The Assistant Secretary for the Office of Special Education and Rehabilitative Services (OSERS) proposes priorities under the Special Demonstration Programs. The Assistant Secretary may use one or more of these priorities for competitions in fiscal year (FY) 2006 and in later years. The purpose of Proposed Priority 1 is to support projects that will develop models of statewide assistive technology (AT) device reutilization systems to meet the AT needs of individuals with disabilities. The purpose of Proposed Priority 2 is to support the establishment of a National Device Reutilization Coordination and Technical Assistance Center (Center) to assist grantees funded under Proposed Priority 1 with the establishment or expansion of their statewide AT device reutilization systems. This Center would disseminate information about promising practices and successful models for AT device reutilization systems, facilitate information exchange among grantees, and address AT device reutilization issues at the national level. While funding for projects under Proposed Priority 1 would be for a three-year period only, this Center would be funded for five years in order to conduct follow-up activities.

DATES: We must receive your comments on or before May 26, 2006.

ADDRESSES: Address all comments about these proposed priorities to Jeremy Buzzell, U.S. Department of Education, 400 Maryland Avenue, SW., room 5025, Potomac Center Plaza, Washington, DC 20202-2800. If you prefer to send your comments through the Internet, use the following address: Jeremy.Buzzell@ed.gov.

You must include the term “Model Demonstrations for Assistive Technology Reutilization” in the subject line of your electronic message.

FOR FURTHER INFORMATION CONTACT: Jeremy Buzzell. Telephone: (202) 245-7319 or via Internet: Jeremy.Buzzell@ed.gov.

If you use a telecommunications device for the deaf (TDD), you may call the TDD number at (202) 205-8352.

Individuals with disabilities may obtain this document in an alternative format (e.g., Braille, large print, audiotape, or computer diskette) on request to the contact person listed under FOR FURTHER INFORMATION CONTACT.

SUPPLEMENTARY INFORMATION:

Invitation to Comment

We invite you to submit comments regarding these proposed priorities. To ensure that your comments have maximum effect in developing the notice of final priorities, we urge you to identify clearly the specific proposed priority that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priorities in room 5025, Potomac Center Plaza, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice in the Federal Register. When inviting applications, we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priorities

Background: Cost is cited as a major barrier that prevents individuals with disabilities from obtaining needed AT devices. One way to reduce the cost of AT devices is through reutilization of AT devices when current owners no longer have a use for them. There are programs in many States that exchange or recycle, refurbish, and redistribute used AT devices at low or no cost to consumers. Many of these programs are supported under the Assistive Technology Act of 1998, as amended (AT Act), while others are supported with independent funds by organizations that provide services to individuals with disabilities. There are limited data available on those programs, but the data that exist show that these programs have had some success in increasing the number of individuals who obtain needed AT.

Proposed Priority 1—Model Demonstrations for Establishing or Expanding AT Device Reutilization Systems

This priority supports projects that propose model demonstrations for the establishment or expansion of statewide AT reutilization programs in a State, including the replication of a successful existing AT device reutilization system from another State. Model AT device reutilization projects funded under this priority must—

(a) Establish an AT device reutilization program, expand an existing AT device reutilization program, or coordinate a partnership of existing AT device reutilization programs to create a statewide AT device reutilization system designed to meet the needs of individuals with disabilities regardless of type of disability or type of equipment to be reutilized;

(b) Collaborate with other providers of AT services in the State, including providers of AT device demonstrations, AT device loans, and alternative financing;

(c) Provide and implement a plan for sustaining the AT device reutilization system beyond Federal funding;

(d) Provide the Rehabilitation Services Administration (RSA) with input in the development of a standard data collection instrument;

(e) Use intake interviews and follow-up surveys to determine if the recipients of AT devices provided by the system could have obtained the devices from another source;

(f) Determine cost savings by comparing the prices paid by recipients of the AT devices to the prices of the same, or similar, AT devices if purchased new;

(g) Collect data as required to address performance measures identified by RSA; and

(h) Demonstrate in their applications that funds would be used to supplement, not supplant, funds received under the AT Act, if the statewide AT device reutilization system is operated by a grantee or subcontractor funded under the AT Act.

Proposed Priority 2—Model Demonstrations for a National Device Reutilization Coordination and Technical Assistance Center

This priority supports a National Device Reutilization Coordination and Technical Assistance Center (Center) that will provide technical assistance to, and coordinate the activities of, grantees funded under the Model Demonstrations for Establishing or Expanding AT Device Reutilization Systems (Model Demonstrations) priority described elsewhere in this notice.

1. The Center funded under this priority must—

(a) Assist model AT device reutilization projects funded under the Model Demonstrations priority with the development or expansion of their AT device reutilization systems or models by disseminating information about promising practices and successful models for reutilization programs and facilitating information exchange among grantees;

(b) Conduct follow-up activities that are designed to enable AT device reutilization programs to continue beyond the three years of Federal funding;

(c) Address reutilization issues at the national level;

(d) Provide technical assistance to the statewide AT device reutilization systems funded under the Model Demonstrations priority in order to improve AT device reutilization practices;

(e) Coordinate the activities of the statewide AT device reutilization systems funded under the Model Demonstrations priority;

(f) Establish a national network of statewide AT device reutilization systems funded under the Model Demonstrations priority 1 and supported by other entities operating AT device reutilization systems; and

(g) Collect data as required to address performance measures identified by RSA.

2. The Center's activities in support of the national network must—

(a) Promote consistency in quality of services across statewide AT reutilization systems funded under the Model Demonstrations priority;

(b) Encourage interstate activities among the statewide AT device reutilization systems funded under the Model Demonstrations priority;

(c) Address issues on the national level, such as building relationships among AT device vendors and manufacturers and programs or working on liability and reimbursement issues;

(d) Nationally market and promote AT device reutilization to individuals with disabilities and other stakeholders in the field of AT; and

(e) Forge partnerships among organizations that support AT device reutilization and report to RSA on the results of these activities in terms of changes in practices or policies of the participating entities (including its own).

Executive Order 12866

This notice of proposed priorities has been reviewed in accordance with Executive Order 12866. Under the terms of the order, we have assessed the potential costs and benefits of this regulatory action.

The potential costs associated with the notice of proposed priorities are those resulting from statutory requirements and those we have determined as necessary for administering this program effectively and efficiently.

In assessing the potential costs and benefits—both quantitative and qualitative—of this notice of proposed priorities, we have determined that the benefits of the proposed priorities justify the costs.

We have also determined that this regulatory action does not unduly interfere with State, local, and tribal governments in the exercise of their governmental functions.

Summary of Potential Costs and Benefits

The potential costs associated with these proposed priorities are minimal, while the benefits are significant. Grantees will increase the number of individuals with disabilities who obtain the AT they need. Grantees may anticipate costs associated with completing the application process in terms of staff time, copying, and mailing or delivery. The use of e-Application technology reduces mailing and copying costs significantly.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 373.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.235V Special Demonstration Programs)

Program Authority: 29 U.S.C. 773(b).
Dated: April 21, 2006.
John H. Hager,
Assistant Secretary for Special Education and Rehabilitative Services.

[FR Doc. 06-3943 Filed 4-25-06; 8:45 am]

BILLING CODE 4000-01-P